NUCLEAR REGULATORY COMMISSION

All Nuclear Power Reactor Licensees; Notice of Issuance of Director's Decision Under 10 CFR 2.206

Notice is hereby given that the Director, Office of Nuclear Reactor Regulation, has taken action on the October 24, 2001, Petition under § 2.206 of Title 10 of the Code of Federal Regulations (10 CFR 2.206) submitted by Mr. Michael D. Kohn (petitioner) on behalf of the National Whistleblower Center. By letter dated January 27, 2002, Mr. Michael D. Kohn submitted an amended Petition. The amended Petition included the names of six additional Petitioners who requested to be added to the Petition. The petitioner requested that the Nuclear Regulatory Commission (NRC) take corrective action to protect the public against the possibility of terrorists seizing control of a large commercial airliner and crashing it into a nuclear power plant in the United States. In addition, the petitioner requested that the NRC take compensatory measures, as set forth in the Petition, to protect the public and environment from the catastrophic impacts of any type of terrorist attack on a nuclear power plant or a spent fuel pool (SFP). The petitioner also requested that the NRC ensure that these compensatory measures are immediately implemented, and that the NRC issue permanent rules, as discussed in the Petition. As a basis for the request described above, the Petitioner stated that:

—No commercial nuclear power plant located in the United States can withstand the impact of a large commercial airliner.

—The NRC intentionally misled the public about its failure to adequately consider risks associated with an air assault on a nuclear facility.

—The NRC knew or should have known that the current design and security measures at the spent fuel pools [SFPs] located at each nuclear power plant are incapable of protecting the population from the catastrophic release of radiation from a potential terrorist attack and immediate and long-term compensatory measures are needed to protect the United States and its citizens.

—The NRC [sic] radioactive material contained in the spent fuel pools are [sic] extremely vulnerable to terrorist attack within six months of a refueling outage. Immediate and long-term compensatory measures are needed to protect the United States and its citizens from an attack on a spent fuel pool within this six month window.

—The NRC must work directly with other security offices in approving compensatory security measures and in approving utility security plans and must re-evaluate its 1979 EIS [Environmental Impact Statement] and 1998 Final Rule regarding SFPs.

—The current background screening requirements which permit “temporary” clearances at nuclear plants do not adequately protect the public.

—The current background screening requirements for long-term clearances at nuclear plants do not adequately protect the public.

—The NRC ended the public's ability to effectively challenge the NRC's decision not to require nuclear power plants to be able to withstand airborne assaults by changing its rules allowing nuclear plants to obtain new 40 year licenses without permitting citizens to challenge “generic” concerns, including risks from terrorist attack.

The NRC sent a copy of the proposed Director's Decision to the petitioner by letter dated May 16, 2002. The petitioner responded with comments by letter dated August 10, 2002. The comments and the staff response to them are enclosures to the Director's Decision.

The staff has partially granted the Petitioner's request to the extent that the NRC has addressed the Petitioner's concerns by issuing Orders on February 25, 2002, to all operating commercial nuclear power plant licensees to implement interim compensatory security measures for the generalized high-level threat environment. The reasons for this determination are explained in the Director's Decision pursuant to 10 CFR 2.206 (DD-02-04), the complete text of which is available in ADAMS for inspection at the Commission's Public Document Room, located at One White Flint North, 11555 Rockville Pike (first floor), Rockville, Maryland, and from the ADAMS Public Library component on the NRC's Web site, http://www.nrc.gov/reading-rm.html (the Public Electronic Reading Room) at Accession No. ML022470090. If you do not have access to ADAMS or have problems in accessing the documents in ADAMS, contact the NRC Public Document Room reference staff at 1-800-397-4209 or 301-415-4737 or by e-mail to pdr@nrc.gov.

A copy of the Director's Decision will be filed with the Secretary of the Commission so that the Commission may review it in accordance with 10 CFR 2.206(c) of the Commission's regulations. As provided for by this regulation, the Director's Decision will constitute the final action of the Commission 25 days after the date of the decision unless the Commission, on its own motion, institutes a review of the decision within that time.

Dated at Rockville, Maryland, this 1st day of November 2002.
For the Nuclear Regulatory Commission.
Jon R. Johnson,
Deputy Director, Office of Nuclear Reactor Regulation.

[FR Doc. 02-29059 Filed 11-14-02; 8:45 am]

BILLING CODE 7590-01-P